NUCLEAR REGULATORY COMMISSION

[EA-17-175/EA-18-183; NRC-2019-0210]

In the Matter of Dead Ringer, LLC

AGENCY: Nuclear Regulatory Commission.

ACTION: Order; issuance.

SUMMARY: The U.S. Nuclear Regulatory Commission (NRC) is issuing an Order to Dead Ringer, LLC, imposing a civil penalty of $43,500. On August 8, 2019, the NRC issued a Notice of Violation and Proposed Imposition of Civil Penalty—$43,500 to Dead Ringer, LLC, for failing to comply with regulatory requirements regarding the import, possession, and distribution of gun sights containing radioactive material.

DATES: The Order imposing civil monetary penalty of $43,500 was issued on October 22, 2019.

ADDRESSES: Please refer to Docket ID NRC-2019-0210 when contacting the NRC about the availability of information regarding this document. You may obtain publicly-available information related to this document using any of the following methods:

• Federal Rulemaking Website: Go to http://www.regulations.gov and search for Docket ID NRC-2019-0210. Address questions about dockets IDs in Regulations.gov to Jennifer Borges; telephone: 301-287-99127; email: Jennifer.Borges@nrc.gov. For technical questions, contact the individual listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. The Order imposing civil monetary penalty is available in ADAMS under Accession No. ML19268A403.

• NRC's PDR: You may examine and purchase copies of public documents at the NRC's PDR, Room O1-F21, One White Flint North, 11555 Rockville Pike, Rockville, Maryland 20852.

FOR FURTHER INFORMATION CONTACT: Leelavathi Sreenivas, Office of Enforcement, U.S. Nuclear Regulatory Commission, Washington, DC 20555-001; telephone: 301-287-9249, email: Leelavathi.Sreenivas@nrc.gov.

SUPPLEMENTARY INFORMATION: The text of the Order is attached.

Dated at Rockville, Maryland, this 22nd day of October 2019.
For the Nuclear Regulatory Commission.
George A. Wilson,
Director, Office of Enforcement.

Attachment—Order Imposing Civil Monetary Penalty

United States of America

Nuclear Regulatory Commission

In the Matter of: Dead Ringer, LLC, Rochester, NY.

EA-17-175

EA-18-183

Order Imposing Civil Monetary Penalty

I

Dead Ringer, LLC (Dead Ringer) provides tactical optics and sights, hunting scopes and sights, as well as archery broadheads, sights and accessories. Dead Ringer is located in Rochester, New York.

II

The U.S. Nuclear Regulatory Commission (NRC) initiated two separate investigations of Dead Ringer's activities on January 4, 2017, and January 19, 2018. The results of both investigations indicated that Dead Ringer had not conducted its activities in full compliance with the NRC's requirements associated with the initial transfer for sale or distribution of gun sights containing radioactive material (tritium). A written Notice of Violation and Proposed Imposition of Civil Penalty (Notice) was served upon Dead Ringer by letter dated August 8, 2019. The Notice states the nature of the violations, the provisions of the NRC's requirements that Dead Ringer violated, and the amount of the civil penalty proposed for the violations. As of the date of this Order, Dead Ringer has not responded to the Notice.

III

The NRC staff has determined that the violations occurred as stated and that the civil penalty in the amount of $43,500 should be imposed. In reaching this determination, the NRC staff considered that Dead Ringer was informed on August 8, 2019, of the NRC's enforcement decision and forthcoming Notice, which were transmitted electronically, as well as via certified mail. Additionally, the NRC staff informed Dead Ringer on September 10, 2019, that an Order would be forthcoming if the civil penalty was not paid. To date, Dead Ringer has not taken any action to address the Notice and proposed imposition of civil penalty.

IV

In view of the foregoing and pursuant to Section 234 of the Atomic Energy Act of 1954, as amended (Act), 42 U.S.C. 2282, and Title 10 of the Code of Federal Regulations (10 CFR), Part 2.205, It is hereby ordered that:

Dead Ringer pay a civil penalty in the amount of $43,500 within 20 days of the date of this Order. Payment is to be made in accordance with NUREG/BR-0254 “Payment Methods” (Enclosure 2). In addition, at the time payment is made, Dead Ringer shall submit a statement indicating when and by what method payment was made, to the Director, Office of Enforcement, U.S. Nuclear Regulatory Commission, One White Flint North, 11555 Rockville Pike, Rockville, MD 20852-2738.

In accordance with 10 CFR 2.202 and 10 CFR 2.309, Dead Ringer must, and any other person adversely affected by this Order may, submit a response within 20 days of the issuance date of this Order. In addition, Dead Ringer or any other person adversely affected by this Order may request a hearing within 20 days of the issuance date of this Order. Where good cause is shown, consideration will be given to extending the time to respond or request a hearing. A request for extension of time must be directed to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public website at http://www.nrc.gov/site-help/e-submittalsgetting-started.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852. Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

If a person other than Dead Ringer requests a hearing, that person shall set forth with particularity the manner in which their interest is adversely affected by this Order and shall address the criteria set forth in 10 CFR 2.309(d) and (f).

In the absence of any request for hearing, or written approval of an extension of time in which to request a hearing, the provisions specified in Section IV above shall be final 20 days from the issuance date of this Order without further order or proceedings. If an extension of time for requesting a hearing has been approved, the provisions specified in Section IV shall be final when the extension expires if a hearing request has not been received.

For the Nuclear Regulatory Commission

/RA/

George A. Wilson,

Director, Office of Enforcement

Dated this 22nd day of October, 2019.

[FR Doc. 2019-23315 Filed 10-24-19; 8:45 am]

BILLING CODE 7590-01-P